ENVIRONMENTAL PROTECTION AGENCY

40 CFR Part 52

[EPA-R09-OAR-2016-0543 FRL-9953-91-Region 9]

Determination of Attainment of the 2008 Ozone National Ambient Air Quality Standards; Eastern San Luis Obispo, California

AGENCY: Environmental Protection Agency (EPA).

ACTION: Proposed rule.

SUMMARY: The Environmental Protection Agency (EPA) is proposing to determine that the San Luis Obispo County (Eastern San Luis Obispo) ozone nonattainment area (NAA) has attained the 2008 ozone National Ambient Air Quality Standards (NAAQS or “standards”) by the applicable attainment date of July 20, 2016. This determination is based on complete, quality-assured and certified data for the 3-year period preceding that attainment date. If the determination is finalized, the Eastern San Luis Obispo NAA will not be reclassified to a higher ozone classification.

DATES: Any comments must arrive by November 14, 2016.

ADDRESSES: Submit your comments, identified by Docket ID No. EPA-R09-OAR-2016-0543 at http://www.regulations.gov, or via email to levin.nancy@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Nancy Levin, (415) 972-3848, or by email at levin.nancy@epa.gov.

SUPPLEMENTARY INFORMATION: Throughout this document whenever “we,” “us,” or “our” is used, we mean the EPA.

Table of Contents

I. What is the background for this action?

A. Ozone NAAQS, Area Designations and Classifications

B. Relevant Statutory and Regulatory Requirements

C. Ambient Air Quality Monitoring Data

II. What is the EPA's analysis of the relevant air quality data?

A. Monitoring Network and Data Considerations

B. Evaluation of the Ambient Air Quality Data

III. What is the effect of this action?

IV. Proposed Action and Public Comment

V. Statutory and Executive Order Reviews

I. What is the background for this action?

A. Ozone NAAQS, Area Designations and Classifications

The Clean Air Act (CAA or “Act”) requires the EPA to establish national primary and secondary standards for certain widespread pollutants, such as ozone, that cause or contribute to air pollution that is reasonably anticipated to endanger public health or welfare.¹ In the 1970s, the EPA promulgated primary and secondary ozone standards, based on a 1-hour average; and, in 1997, we replaced the 1-hour ozone standards with primary and secondary 8-hour ozone standards. In 2008, we tightened the 8-hour ozone standards to the level of 0.075 parts per million (ppm), daily maximum 8-hour average.² See 73 FR 16436 (March 27, 2008); 40 CFR 50.15. Since the primary and secondary ozone standards are the same, we refer to them herein using the singular “2008 ozone standard.” The 2008 ozone standard is met at an ambient air quality monitoring site when the 3-year average of the annual fourth-highest daily maximum 8-hour average ozone concentration is less than or equal to 0.075 ppm, as determined in accordance with 40 CFR part 50, appendix P.

¹ See sections 108 and 109 of the Act. Primary standards represent ambient air quality standards the attainment and maintenance of which the EPA has determined, including a margin of safety, are requisite to protect the public health. Secondary standards represent ambient air quality standards the attainment and maintenance of which the EPA has determined are requisite to protect the public welfare from any known or anticipated adverse effects associated with the presence of such air pollutant in the ambient air. CAA section 109(b).

² In 2015, we tightened the ozone standards even further and established 0.070 ppm, 8-hour average, as the new ozone NAAQS. 80 FR 65292 (October 26, 2015). While the 1979 1-hour ozone NAAQS and 1997 8-hour ozone NAAQS have been revoked, the 2008 ozone NAAQS remains in effect.

The EPA designated NAAs for the 2008 ozone standard on May 21, 2012, effective July 20, 2012 (77 FR 30088). In that action, the EPA classified by operation of law the eastern portion of San Luis Obispo County, CA (Eastern San Luis Obispo) NAA as “Marginal.” ³ The original attainment date for the 2008 ozone standard for this Marginal ozone NAA was as expeditious as practicable but not later than July 20, 2015. See 40 CFR 51.1103.

³ San Luis Obispo County is the northern-most county within the air basin designated by California as the South Central Coast Air Basin. The NAA encompasses roughly the eastern half of San Luis Obispo County.

In May 2016, the EPA granted the State of California a 1-year extension of the attainment date for Eastern San Luis Obispo, thereby extending the applicable attainment date for that area from July 20, 2015 to July 20, 2016.⁴

⁴ 81 FR 26697 (May 4, 2016).

B. Relevant Statutory and Regulatory Requirements

Section 181(b)(2)(A) of the CAA requires that within six months following the applicable attainment date, the EPA will determine whether an ozone NAA attained the ozone standard based on the area's design value as of that date. The design value is a statistic that describes the air quality status of a given location relative to the level of the NAAQS. For the purpose of comparison with the 2008 ozone standard, the design value for a site is the 3-year average of the annual fourth highest daily maximum 8-hour average ozone concentrations.

C. Ambient Air Quality Monitoring Data

A determination of whether an area's air quality meets the 2008 ozone NAAQS is generally based upon three consecutive calendar years of complete, quality-assured data measured at established State and Local Air Monitoring Stations (SLAMS) in the NAA and entered into the EPA Air Quality System (AQS) database. Data from ambient air monitoring sites operated by state or local agencies in compliance with EPA monitoring requirements must be submitted to AQS. Heads of monitoring agencies annually certify that these data are accurate to the best of their knowledge. Accordingly, the EPA relies primarily on data in AQS when determining the attainment status of an area. See 40 CFR 50.15; 40 CFR part 50, appendix P; 40 CFR part 53; 40 CFR part 58, appendices A, C, D and E. All data are reviewed to determine the area's air quality status in accordance with 40 CFR part 50, appendix P.

The 2008 ozone standard is met at an ambient air quality monitoring site when the design value is less than or equal to 0.075 ppm, as determined in accordance with 40 CFR part 50, appendix P. See 40 CFR 50.15. When the design value is less than or equal to 0.075 ppm (based on the rounding convention in 40 CFR part 50, appendix P) at each monitoring site within the area, then the area is meeting the NAAQS. The data completeness requirement is met when the 3-year average percent of days with valid monitoring data is at least 90%, and no single year has less than 75% data completeness as determined in accordance with 40 CFR part 50, appendix P.

II. What is the EPA's analysis of the relevant air quality data?

A. Monitoring Network and Data Considerations

The California Air Resources Board (CARB) and local air pollution control districts and air quality management districts (“districts”) operate ambient air monitoring stations throughout the State of California. CARB is the lead monitoring agency in the Primary Quality Assurance Organization (PQAO) that includes all the monitoring agencies in the State with a few exceptions.5 6 There are two ozone SLAMS (referred to as the Red Hills and Carrizo Plains sites) within the Eastern San Luis Obispo ozone NAA, and the San Luis Obispo County Air Pollution Control District (SLOCAPCD) operates both sites. CARB is the PQAO for the two Eastern San Luis Obispo monitoring sites.

⁵ PQAO means a monitoring organization, a group of monitoring organizations or other organization that is responsible for a set of stations that monitor the same pollutant and for which data quality assessments can be pooled. Each criteria pollutant sampler/monitor at a monitoring station must be associated with only one PQAO. (40 CFR 58.1).

⁶ The Bay Area Air Quality Management District, the South Coast Air Quality Management District and the San Diego Air Pollution Control District are each designated as the PQAO for their respective ambient air monitoring programs.

All state and local air monitoring agencies are required to submit annual monitoring network plans to the EPA.⁷ An annual monitoring network plan discusses the status of the air monitoring network, as required under 40 CFR part 58.10. The SLOCAPCD submits the annual monitoring network plan for all sites in San Luis Obispo County.⁸

⁷ See 40 CFR 58.10(a)(1).

⁸ CARB 2015 Monitoring Network Assessment, September 2015, pages 2-3.

Since 2007, the EPA has regularly reviewed these annual monitoring network plans for compliance with the applicable reporting requirements in 40 CFR part 58. With respect to ozone, the EPA found that the area's annual monitoring network plans meet the applicable requirements under 40 CFR part 58. See EPA letters to SLOCAPCD approving its annual monitoring network plans for the years 2013, 2014, and 2015.⁹

⁹ Letters from Meredith Kurpius, Manager, Air Quality Analysis Office, EPA Region IX, to Larry Allen, Air Pollution Control Officer, SLOCAPCD, dated December 11, 2013, October 27, 2014 and October 26, 2015.

The EPA also concluded from its Technical System Audit (TSA) of the CARB PQAO (conducted during Summer 2015), that the combined ambient air monitoring network operated by CARB and the local air districts in its PQAO (which includes SLOCAPCD) currently meets or exceeds the requirements for the minimum number of SLAMS for the 2008 ozone standard.¹⁰ All of the monitoring sites in the PQAO are reviewed with respect to monitoring objectives, spatial scales and other site criteria as required by 40 CFR part 58, appendix D.

¹⁰ Letter from Elizabeth J. Adams, Acting Director, Air Division, EPA Region IX, to Richard Corey, Executive Officer, CARB, dated August 31, 2016, transmitting findings of the EPA's 2015 TSA of the CARB's ambient air monitoring program.

CARB oversees the quality assurance of all data collected within the CARB PQAO. The SLOCAPCD annually certifies that the data it submits to AQS for its monitoring sites are complete and quality-assured.¹¹

¹¹ See, e.g., letter from Larry Allen, Air Pollution Control Officer, SLOCAPCD, to Alexis Strauss, Acting Regional Administrator, EPA Region IX, regarding 2015 Annual SLAMS Data Certification, certifying calendar year 2015 ambient air quality data and quality assurance data, April 19, 2016.

As noted above, there are two ozone SLAMS monitoring sites operating within the Eastern San Luis Obispo NAA. These sites monitor ozone concentrations on a continuous basis using EPA reference or equivalent methods.¹²

¹² See the San Luis Obispo County APCD's Annual Network Plan Report (July 2015).

Lastly, consistent with the requirements contained in 40 CFR part 50, the EPA has reviewed the quality-assured and certified ozone ambient air monitoring data, as recorded in AQS for the applicable monitoring period, collected at the monitoring sites in the Eastern San Luis Obispo NAA for completeness. The EPA has determined that the data are complete.¹³ For the two ozone monitoring sites in Eastern San Luis Obispo, daily maximum 8-hour average concentrations are available for at least 90% of the days within the ozone monitoring season, on average for the 2013-2015 period, and daily maximum 8-hour average concentrations are available for at least 75% of the days within the ozone monitoring season for each individual year within that period.

¹³ See EPA, Air Quality System, Design Value Report, July 25, 2016.

B. Evaluation of the Ambient Air Quality Data

As noted above, the applicable attainment date for the Eastern San Luis Obispo ozone NAA is July 20, 2016, and under CAA section 181(b)(2)(A), the EPA must determine whether the area attained the 2008 ozone standard by that date. To do so, we must review the ozone data for the three calendar years immediately prior to the attainment date, and, for a 2016 attainment date, the relevant years are 2013, 2014 and 2015. Table 1 shows the fourth-highest daily maximum 8-hour ozone concentrations for 2013 through 2015 at both sites in the Eastern San Luis Obispo area and shows the design values for the 2013-2015 period. The design value for a given area is based on the monitoring site with the highest design value. In this case, the design value for 2013-2015 for the Eastern San Luis Obispo ozone NAA is at the Red Hills site and is 0.073 ppm, which is less than the standard (i.e. 0.075 ppm). Therefore, we are proposing to determine, based on the complete, quality-assured and certified data for 2013-2015, that the Eastern San Luis Obispo ozone NAA has attained the 2008 ozone standard by the applicable attainment date of July 20, 2016.

Table 1—2013-2015 Ozone Design Values at Sites Within the Eastern San Luis Obispo NAA
Monitoring site | AQS Site identification No. | Fourth-highest daily maximum 8-hour ozone concentration (ppm): 2013 | Fourth-highest daily maximum 8-hour ozone concentration (ppm): 2014 | Fourth-highest daily maximum 8-hour ozone concentration (ppm): 2015 | Design value (2013-2015)
Red Hills | 06-079-8005 | 0.075 | 0.073 | 0.072 | 0.073
Carrizo Plains | 06-079-8006 | 0.067 | 0.068 | 0.068 | 0.067
Source: EPA AQS Quick Look Report (AMP450), August 10, 2016.

III. What is the effect of this action?

If the EPA finalizes its proposed determination that the Eastern San Luis Obispo NAA has attained the 2008 ozone NAAQS by the applicable attainment date of July 20, 2016, the area would no longer be subject to reclassification as a Moderate area for the 2008 ozone standard. Moreover, the determination of attainment by the applicable attainment date would discharge EPA's obligation, under CAA section 181(b)(2)(A), to determine whether this area attained the standard by its applicable attainment date. This determination of attainment would, however, not constitute a redesignation to attainment. Under CAA section 107(d)(3)(E), redesignations to attainment require states to meet a number of additional statutory criteria including EPA's approval of a SIP revision demonstrating maintenance of the standard for 10 years after redesignation. The designation status of the Eastern San Luis Obispo area remains nonattainment for the 2008 ozone NAAQS until such time as the EPA determines that the area meets the CAA requirements for redesignation to attainment.

IV. Proposed Action and Public Comment

The EPA is proposing to determine that the Eastern San Luis Obispo ozone NAA has attained the 2008 ozone standard by the applicable attainment date of July 20, 2106, based on complete, quality-assured and certified ambient air quality monitoring data for the 2013-2015 monitoring period. If finalized as proposed, the Eastern San Luis Obispo ozone NAA will not be reclassified to a higher classification for the 2008 ozone standard.

The EPA is soliciting public comments on the issues discussed in this document or on other relevant matters. We will accept comments from the public on this proposal for the next 30 days. We will consider these comments before taking final action.

V. Statutory and Executive Order Reviews

The action proposed herein is a determination based on air quality data and does not impose additional requirements beyond those imposed by state law. For that reason, the proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to the requirements of section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because it will not impose substantial direct costs on tribal governments or preempt tribal law.

List of Subjects in 40 CFR Part 52

Environmental protection, Air pollution control, Incorporation by reference, Intergovernmental relations, Oxides of nitrogen, Ozone, Volatile organic compounds.

Authority: 42 U.S.C. 7401 et seq.

Dated: September 28, 2016.
Deborah Jordan,
Acting Regional Administrator, Region IX.

[FR Doc. 2016-24489 Filed 10-11-16; 8:45 am]

BILLING CODE 6560-50-P